DEPARTMENT OF COMMERCE

International Trade Administration

[A-588-856, A-580-846, A-469-810]

Antidumping Duty Orders: Stainless Steel Angle From Japan, Korea, and Spain

AGENCY: Import Administration, International Trade Administration, Department of Commerce.

ACTION: Notice of antidumping duty orders.

EFFECTIVE DATE: May 18, 2001.

FOR FURTHER INFORMATION CONTACT: Jarrod Goldfeder (Japan) at (202) 482-0189, Brian Smith (Korea) at (202) 482-1766, or Minoo Hatten (Spain) at (202) 482-1690, Import Administration, International Trade Administration, U.S. Department of Commerce, 14th Street and Constitution Avenue, NW., Washington, DC 20230.

The Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations refer to 19 CFR Part 351 (2000).

Scope of Orders

For purposes of these orders, the term “stainless steel angle” includes hot-rolled, whether or not annealed or descaled, stainless steel products of equal leg length angled at 90 degrees, that are not otherwise advanced. The stainless steel angle subject to these orders is currently classifiable under subheadings 7222.40.30.20 and 7222.40.30.60 of the Harmonized Tariff Schedules of the United States (“HTSUS”). Specifically excluded from the scope of these orders is stainless steel angle of unequal leg length. Although the HTSUS subheadings are provided for convenience and customs purposes, our written description of the scope of these orders is dispositive.

Antidumping Duty Orders

In accordance with section 735(a) of the Act, the Department published its final determinations that stainless steel angle from Japan, Korea, and Spain is being, or is likely to be, sold in the United States at less than fair value. See Notice of Final Determinations of Sales at Less Than Fair Value: Stainless Steel Angle from Japan, Korea, and Spain, 66 FR 16175 (March 23, 2001). On May 11, 2001, the International Trade Commission notified the Department of its final determination pursuant to section 735(b)(1)(A)(i) of the Act that an industry in the United States is materially injured by reason of less-than-fair-value imports of subject merchandise from Japan, Korea, and Spain. Therefore, in accordance with section 736(a)(1) of the Act, the Department will direct the Customs Service to assess, upon further advice by the Department, antidumping duties equal to the amount by which the normal value of the merchandise exceeds the export price or constructed export price of the merchandise for all relevant entries of stainless steel angle from Japan, Korea, and Spain. These antidumping duties will be assessed on all unliquidated entries of imports of the subject merchandise that are entered, or withdrawn from warehouse, for consumption on or after January 12, 2001, the date on which the Department published its notice of affirmative preliminary determinations in the Federal Register (66 FR 2880).

On or after the date of publication of this notice in the Federal Register, Customs Service officers must require, at the same time as importers would normally deposit estimated duties, a cash deposit equal to the estimated weighted-average antidumping duty margins as noted below. The “All Others” rates apply to all exporters of subject merchandise not specifically listed. The weighted-average dumping margins are as follows:

| Weighted-average margin percentage
Weighted-Average (Japan):
Daido Steel Co., Ltd. | 114.51
Aichi Steel Corporation | 114.51
Sumitomo Metal Industries, Ltd. | 114.51
All Others | 70.48
Exporter/Manufacturer (Korea):
Bae Myung Metal Co., Ltd. | 99.56
SK Global Co., Ltd. | 99.56
All Others | 40.21
Exporter/Manufacturer (Spain):
Roldan, S.A. | 61.45
All Others | 24.32

This notice constitutes the antidumping duty orders with respect to stainless steel angle from Japan, Korea, and Spain, pursuant to section 736(a) of the Act. Interested parties may contact the Department's Central Records Unit, Room B-099 of the Main Commerce Building, for copies of an updated list of antidumping duty orders currently in effect.

These orders are published in accordance with section 736(a) of Act and 19 CFR 351.211.

Dated: May 14, 2001.
Faryar Shirzad,
Assistant Secretary for Import Administration.

[FR Doc. 01-12596 Filed 5-17-01; 8:45 am]

BILLING CODE 3510-DS-P